DEPARTMENT OF THE INTERIOR

National Park Service

[NPS-WASO-NAGPRA-NPS0033787; PPWOCRADN0-PCU00RP14.R50000]

Notice of Inventory Completion: University of Arkansas Museum Collections, Fayetteville, AR

AGENCY: National Park Service, Interior.

ACTION: Notice.

SUMMARY: The University of Arkansas Museum Collections has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of Arkansas Museum Collections. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of Arkansas Museum Collections at the address in this notice by May 31, 2022.

FOR FURTHER INFORMATION CONTACT: Dr. Mary Suter, University of Arkansas Museum Collections, Biomass 125, Fayetteville, AR 72701, telephone (479) 575-3456, email msuter@uark.edu.

SUPPLEMENTARY INFORMATION: Notice is here given in accordance with the Native American Graves Protection and Repatriation Act (NAGPRA), 25 U.S.C. 3003, of the completion of an inventory of human remains and associated funerary objects under the control of the University of Arkansas Museum Collections, Fayetteville, AR. The human remains and associated funerary objects were removed from various sites in eastern Arkansas.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Arkansas Museum Collections professional staff in consultation with representatives of the Quapaw Nation [previously listed as The Quapaw Tribe of Indians].

History and Description of the Remains

At an unknown date, human remains representing, at minimum, two individuals were removed from the Barfield Point Site (3MS109) in Mississippi County, AR. Sometime in the 1880s or 1890s, persons unknown donated these human remains to the Putnam Museum in Davenport, Iowa. At an unknown date, the Putnam Museum transferred the human remains to the Department of Anthropology, University of Arkansas (UA), and in 2006, the UA Department of Anthropology transferred the human remains to the University of Arkansas Museum Collections. No known individuals were identified. No associated funerary objects are present.

At an unknown date, human remains representing, at minimum, one individual were removed from the Campbell Site (23PM5) in Pemiscot County, MO. In 1991, these human remains were donated to the University of Arkansas Museum Collections. No known individual was identified. The one associated funerary object is a red-slipped, partially reconstructed ceramic bottle.

At an unknown date, human remains representing, at minimum, two individuals were removed from the Carden Bottoms Site (3YE14) in Yell County, AR. In 1927, these human remains were purchased from an antiquities dealer. No known individuals were identified. The three associated funerary objects are one complete ceramic bowl and two reconstructed ceramic bowls.

In 1965, human remains representing, at minimum, two individuals were removed from the De Rossitt Site (3SF49) in St. Francis County, AR, during a University of Arkansas Museum-sponsored excavation. No known individuals were identified. No associated funerary objects are present.

At an unknown date, human remains representing, at minimum, one individual were removed from the Denton Site (23PM) in Pemiscot, MO. In 1975, the unidentified collector donated the human remains and associated funerary objects to the University of Arkansas Museum Collections. No known individual was identified. The 62 associated funerary objects are 61 shell-tempered sherds and one small piece of wood.

At various unknown dates, human remains representing, at minimum, 69 individuals were removed from unidentified sites located in Eastern Arkansas. In 1959, the University of Arkansas Museum purchased these human remains together with associated funerary objects from the collector. No known individuals were identified. The seven associated funerary objects are seven animal teeth.

At an unknown date, human remains representing, at minimum, 29 individuals were removed from the Hales Point Site (3MS78) in Mississippi County, AR. Sometime in the 1880s or 1890s, persons unknown donated these human remains to the Putnam Museum in Davenport, Iowa. At an unknown date, the Putnam Museum transferred the human remains to the Department of Anthropology, University of Arkansas, and in 2006, the UA Department of Anthropology transferred the human remains to the University of Arkansas Museum Collections. No known individuals were identified. No associated funerary objects are present.

At an unknown date, human remains representing, at minimum, 84 individuals were removed from unidentified sites located in Northeast Arkansas. Sometime in the 1880s or 1890s, persons unknown donated these human remains to the Putnam Museum in Davenport, Iowa. At an unknown date, the Putnam Museum transferred the human remains to the Department of Anthropology, University of Arkansas, and in 2006, the UA Department of Anthropology transferred the human remains to the University of Arkansas Museum Collections. No known individuals were identified. No associated funerary objects are present.

At an unknown date, human remains representing, at minimum, one individual were removed from the Parkin Site (3CS29) in Cross County, AR. In 1963, these human remains were donated to the University of Arkansas Museum. In 1965 and 1966, human remains representing, at minimum, 14 individuals were removed from the Parkin Site during University of Arkansas Museum-sponsored excavations. No known individuals were identified. The one associated funerary object is a small thinning flake.

In 1964 and 1967, human remains representing two individuals were removed from the Point Remove Site (3CN4) in Conway County, AR. These human remains were removed during University of Arkansas Museum-sponsored excavations. No known individuals were identified. No associated funerary objects are present.

At an unknown date, human remains representing, at minimum, one individual were removed from the Sanford Site (3PO49) in Poinsett County, AR. In 1967, these human remains were donated to the University of Arkansas Museum Collections. No known individual was identified. No associated funerary objects are present.

In 1966, human remains representing, at minimum, one individual were removed from the Scott Place Site (3PO27) in Poinsett County, AR. These human remains were collected from the surface of the site during a land-leveling survey conducted by the University of Arkansas Museum. No known individual was identified. No associated funerary objects are present.

In 1966, human remains representing, at minimum, one individual were removed from the St. Francis Site I (3SF54) in Saint Francis County, AR. These human remains were collected from the surface of the site as a reporter was recording archeological sites in eastern Arkansas. In 1966, the reporter donated the human remains to the University of Arkansas Museum. No known individual was identified. No associated funerary objects are present.

At an unknown date, human remains representing, at minimum, one individual were removed from the St. Mary's Parish Site (3IN480) in Independence County, AR. Sometime in the 1880s or 1890s, persons unknown donated these human remains to the Putnam Museum in Davenport, Iowa. At an unknown date, the Putnam Museum donated or transferred the human remains to the Department of Anthropology, University of Arkansas, and in 2006, the UA Department of Anthropology transferred the human remains to the University of Arkansas Museum Collections. No known individual was identified. No associated funerary objects are present.

In 1932, 34 associated funerary objects were removed from the Kinkaid-Mainard Site (3PU2) during a University of Arkansas Museum-sponsored excavation. Of these associated funerary objects, 28 currently are present in the collection. They include one reconstructed red-slipped bottle, one mussel shell, and 26 body sherds. The six associated funerary objects currently missing from the collection include one animal hide, three badly crushed pots, and two projectile points.

During the Mississippian period (A.D. 950-1541) in the Mississippi valley, distinctive local groups emerged in the archeological record that correspond in geographical extent and cultural cohesiveness to the Quapaw Nation. In the late 17th century, French explorers noted the existence of Quapaw villages around the confluence of the Arkansas and Mississippi Rivers. Based on this archeological, historical, and geographical information, the University of Arkansas Museum Collections has determined that the human remains listed in this notice are culturally affiliated with the Quapaw Nation [previously listed as The Quapaw Tribe of Indians].

Determinations Made by the University of Arkansas Museum Collections

Officials of the University of Arkansas Museum Collections have determined that:

• Pursuant to 25 U.S.C. 3001(9), the human remains described in this notice represent the physical remains of 211 individuals of Native American ancestry.

• Pursuant to 25 U.S.C. 3001(3)(A), the 101 objects described in this notice are reasonably believed to have been placed with or near individual human remains at the time of death or later as part of the death rite or ceremony.

• Pursuant to 25 U.S.C. 3001(2), there is a relationship of shared group identity that can be reasonably traced between the Native American human remains and associated funerary objects and the Quapaw Nation [previously listed as The Quapaw Tribe of Indians].

Additional Requestors and Disposition

Lineal descendants or representatives of any Indian Tribe or Native Hawaiian organization not identified in this notice that wish to request transfer of control of these human remains and associated funerary objects should submit a written request with information in support of the request to Dr. Mary Suter, University of Arkansas Museum Collections, Biomass 125, Fayetteville, Arkansas 72701, telephone (479) 575-3456, email msuter@uark.edu, by May 31, 2022. After that date, if no additional requestors have come forward, transfer of control of the human remains and associated funerary objects to the Quapaw Nation [previously listed as The Quapaw Tribe of Indians] may proceed.

The University of Arkansas Museum Collections is responsible for notifying the Quapaw Nation [previously listed as The Quapaw Tribe of Indians] that this notice has been published.

Dated: April 20, 2022.
Melanie O'Brien,
Manager, National NAGPRA Program.

[FR Doc. 2022-09160 Filed 4-28-22; 8:45 am]

BILLING CODE 4312-52-P